DEPARTMENT OF THE INTERIOR

Fish and Wildlife Service

Notice of Intent To Prepare a Comprehensive Conservation Plan and Associated Environmental Assessment for the Detroit River International Wildlife Refuge, Wayne and Monroe Counties, MI

AGENCY: U.S. Fish and Wildlife Service, Interior.

ACTION: Notice of intent to prepare a Comprehensive Conservation Plan and associated Environmental Assessment for the Detroit Rivers International Wildlife Refuge.

SUMMARY: This notice advises the public that the U.S. Fish and Wildlife Service (Service) intends to prepare a Comprehensive Conservation Plan and an associated Environmental Assessment for the Detroit River International Wildlife Refuge located in Wayne and Monroe Counties, Michigan. The Service is furnishing this notice in compliance with Service Comprehensive Conservation Plan policy and the National Environmental Policy Act and implementing regulations to achieve the following:

(1) Advise other agencies and the public of our intentions;

(2) Obtain suggestions and information on the scope of issues, opportunities, and concerns for inclusion in the Comprehensive Conservation Plan and Environmental Assessment; and

(3) Solicit information from the public about archaeological sites, buildings and structures, historic places, cemeteries, and traditional use sites that could influence decisions about management of the Refuge.

DATES: Beginning in late June 2002, the Service will solicit information from the public via public open house events, workshops, focus groups, and written comments. Special mailings, newspaper articles, radio announcements, and the Service's web site http://midwest.fws.gov/planning/detroitrivertop.htm will inform people of the times and places of public involvement opportunities.

FOR FURTHER INFORMATION CONTACT: Address comments and requests for additional information to: Gary Muehlenhardt, NWRS-AP, U.S. Fish and Wildlife Service, 1 Federal Drive, Fort Snelling, Minnesota 55111-5406. Email: gary—muehlenhardt@fws.gov. Telephone: 1-800-247-1247 extension 5477.

SUPPLEMENTARY INFORMATION: It is Service policy to have all lands within the National Wildlife Refuge System managed in accordance with an approved Comprehensive Conservation Plan. The Comprehensive Conservation Plan will guide management decisions and identify refuge goals, objectives, and strategies for achieving refuge purposes. The public is encouraged to participate in the planning process. The Comprehensive Conservation Plan will provide other agencies and the public with a clear understanding of the desired future conditions of the Refuge and how the Service will implement management strategies.

The Detroit River International Wildlife Refuge (Refuge) was established by Public Law 107-91 on December 21, 2002 and is the first international wildlife refuge in North America. The Refuge will conserve, protect and restore habitat for 29 species of waterfowl, 65 kinds of fish and 300 species of migratory birds along the lower Detroit River in Michigan and Canada. The authorized refuge boundary includes islands, coastal wetlands, marshes, shoals and riverfront lands along 18 miles of the Lower Detroit River.

The Refuge establishing act included Mud Island and Grassy Islands, lands already managed by the Service as Wyandotte National Wildlife Refuge (394 acres). The Act created an “acquisition” boundary for the refuge, called for partnerships with Canada and local communities, and directed the Service to “conduct a study of fish and wildlife habitat and aquatic and terrestrial communities of the north reach of the Detroit River” for potential inclusion in the Refuge, and to report back to Congress in 18 months. To meet this obligation, the Service will be developing a Comprehensive Conservation Plan for the new Refuge.

Dated: June 3, 2002.
William F. Hartwig,
Regional Director.

[FR Doc. 02-16576 Filed 7-1-02; 8:45 am]

BILLING CODE 4310-55-M